ENVIRONMENTAL PROTECTION AGENCY

[EPA-HQ-OAR-2003-0033; FRL-9210-5]

Agency Information Collection Activities; Submission of EPA ICR No. 2078.01 to OMB for Review and Approval; Comment Request

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on March 31, 2011. Before submitting the ICR to OMB for review and approval, EPA is soliciting comments on specific aspects of the proposed information collection as described below.

DATES: Comments must be submitted on or before December 6, 2010.

ADDRESSES: Submit your comments, identified by Docket ID No. OAR-2003-0033 by one of the following methods:

• http://www.regulations.gov: Follow the on-line instructions for submitting comments.

• E-mail: a-and-r-docket@epa.gov.

• Fax: 202-566-9744.

• Mail: Air and Radiation Docket Environmental Protection Agency, Mailcode: 2822T, 1200 Pennsylvania Ave., NW., Washington, DC 20460.

• Hand Delivery: EPA Air and Radiation Docket, EPA Docket Center, Environmental Protection Agency, EPA West, Room B102, 1301 Constitution Ave, NW., Washington, DC. Such deliveries are only accepted during the Docket's normal hours of operation, and special arrangements should be made for deliveries of boxed information.

Instructions: Direct your comments to Docket ID No. EPA-HQ-OAR-2003-0033. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Christopher Kent, Climate Protection Partnership Division, Office of Air and Radiation, MC 6202J, Environmental Protection Agency, 1200 Pennsylvania Ave., NW., Washington, DC 20460; telephone number: 202-343-9046; fax number: 202-343-2200; e-mail address: kent.christopher@epa.gov.

SUPPLEMENTARY INFORMATION:

How can I access the docket and/or submit comments?

EPA has established a public docket for this ICR under Docket ID No. HQ-OAR-2003-0033 for each of the ICRs identified in this document, which is available for online viewing at http://www.regulations.gov, or inperson viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for Air and Radiation Docket is 202-566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Docket ID No. HQ-OAR-2003-0033

Affected Entities: Entities potentially affected by this action include Partners in ENERGY STAR's product labeling program.

Title: Information Collection Activities associate with EPA's ENERGY STAR product labeling.

ICR Numbers: EPA ICR No. 2078.01, OMB Control No. 2060-0528.

ICR Status: This ICR is currently scheduled to expire on March 31, 2011. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: ENERGY STAR is a voluntary program developed in collaboration with industry to create a self-sustaining market for energy efficient products. The centerpiece of the program is the ENERGY STAR label, a registered certification label that helps consumers identify products that save energy, save money, and help protect the environment without sacrificing quality or performance. In order to protect the integrity of the label and enhance its effectiveness in the marketplace, EPA must ensure that products carrying the label meet appropriate program requirements.

The ENERGY STAR program has determined it necessary to shift from a self-certification program to one in which we have an enhanced qualification and verification process with all testing being done in EPA-recognized, accredited labs and partners participating in product-specific certification programs. These changes are an effort to preserve the consumer confidence in the ENERGY STAR label and to protect the significant value it offers program partners. EPA believes that the new requirements will mean that leadership companies' participation and the ENERGY STAR label will become even more meaningful in the market.

Maintaining the value of this brand requires ensuring products labeled with the ENERGY STAR deliver on their promise to the consumer. So beginning in January 2011, manufacturers must obtain third party certification for new products labeled with the ENERGY STAR mark. As with previous program requirements, program participants submit signed Partnership Agreements indicating that they will adhere to logo-use guidelines and that participating products meet specified energy performance criteria based on a standard test method.

As part of our contribution to the overall success of the program, EPA has agreed to facilitate the sale of qualifying products by providing consumers with easy-to-use information about the products. To be effective, EPA and its relevant recognized certification body must receive qualifying product information from participating manufacturers. Partners need to provide qualifying information prior to labeling so as to ensure that EPA information is recent and accurate. The information will be compiled by the certification body which will then provide EPA with the appropriate data so the product may be incorporated into a complete qualifying products list per product category, posted on the ENERGY STAR Web site, and supplied to those purchasers who request it via phone, fax, or e-mail.

In order to monitor progress and support the best allocation of resources, EPA also asks manufacturers to submit annual shipment data for their ENERGY STAR qualifying products. EPA is flexible as to the methods by which manufacturers may submit unit shipment data. For example, if manufacturers already submit this type of information to a third party, such as a trade association, they are given the option of arranging for shipment data to be sent to EPA via this third party to avoid duplication of efforts and to ensure confidentiality. In using any shipment data received directly from a partner, EPA will mask the source of the data so as to protect confidentiality.

Finally, Partners that wish to receive recognition for their efforts in ENERGY STAR may submit an application for the Partner of the Year Award.

Burden Statement: The annual public reporting and recordkeeping burden for this collection of information is estimated to average 76.53 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The annual burden to respondents is approximately 49,738 hours, at a cost of approximately $4,565,289. The total cost for the Agency is $407,854, and the hourly burden is approximately 17,954 hours. A grand total of $5,352,668 and the hourly burden of approximately 67,692 hours is estimated for all information collection activities under ENERGY STAR product labeling.

EPA collects initial information in the Partnership Agreement (PA), which is completed and submitted by every Partner participating in ENERGY STAR. One overarching PA has been developed by EPA for ENERGY STAR product labeling. It is expected that over 1000 new Partners will join each year for the three years of this ICR. The reporting burden for information collection requirements associated with completing the PA for each respondent is estimated to be 4.20 hours. This estimate includes time for reviewing the instructions on the PA, completing and reviewing the information requested by the PA, and submitting the PA.

EPA processes and approves applications for EPA recognition of accreditation bodies, laboratories and certification bodies. All of these entities seek EPA recognition by submitting an application that EPA will then review and ultimately approve or reject. The universe of accreditation bodies is limited and the number of certification bodies is also a limited universe. The number of laboratories seeking EPA recognitions is potentially quite large. EPA estimates that a total of 250 entities will seek recognition of each year for the three years of this ICR.

Every manufacturing Partner is required to obtain third party certification for each of their qualifying products. Sixty three different product categories are covered by EPA under ENERGY STAR. Each product category has specific qualifying efficiency criteria the products must be certified against. Manufacturing partners must work with a product specific certification body. EPA estimates there will 20-30 different certification bodies to cover the 63 product categories. with certification bodies covering one or more product category. EPA estimates that over 16,000 new qualifying products will be recognized each year for the three years of this ICR. The qualifying product list for each product category is updated by the Agency twice a month, for a total of 1638 times annually (63 qualifying product lists multiplied by 26 months in a year).

Each year, ENERGY STAR Partners are required to submit unit shipment data for their ENERGY STAR qualified products. There will be an average of nearly 3000 Partners each year for the three years of this ICR. Therefore, 2250 reports of unit shipment data are expected each year for the three years of this ICR. Unit shipment data will be aggregated for each of the 63 product categories covered by EPA under ENERGY STAR. The reporting burden for information collection requirements associated with unit shipment data for each respondent is estimated to be 6.69 hours. This estimate includes reviewing instructions, gathering unit shipment data, compiling and reviewing it by category, and submitting it.

Partners interested in receiving recognition for their efforts on ENERGY STAR are required to submit a Partner of the Year application. One set of Partner of the Year award criteria are developed by the Agency each year and posted on the ENERGY STAR Web site. An average of 63 award applications are expected each year for the three years of this ICR. The reporting burden for information collection requirements associated with the Partner of the Year application for each respondent is estimated to be 59.29 hours. This estimate includes reviewing instructions on the application, gathering data and information for submission, completing the application, reviewing the information and narrative description required, and submitting the application to EPA.

Are there changes in the estimates from the last approval?

There is a decrease of approximately 39,411 hours in the total estimated respondent burden compared with that identified in the ICR currently approved by OMB. The majority of t the decrease is due to EPA's program change to the ENERGY STAR program from one where the program relied on a supplier's self declaration that a product meets the ENERGY STAR criteria to one which manufacturers must obtain third party certification in order to label new products. These decrease are also offset by the increase in the number of respondents submitting new partnership agreements, reporting annually on unit shipment data and applying for Partner of the Year awards.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 29, 2010.
Beth Craig,
Acting Director, Climate Protection Partnerships Division.

[FR Doc. 2010-24923 Filed 10-4-10; 8:45 am]

BILLING CODE 6560-50-P